DEPARTMENT OF AGRICULTURE

Forest Service

North Central Idaho Resource Advisory Committee

AGENCY: Forest Service, USDA.

ACTION: Notice of meeting.

SUMMARY: The North Central Idaho RAC will meet in Potlatch, Idaho. The committee is meeting as authorized under the Secure Rural Schools and Community Self-Determination Act (Pub. L. 110-343) and in compliance with the Federal Advisory Committee Act. The purpose of the meeting is to discuss potential projects for the new fiscal year.

DATES: The meeting will be held November 4, 2010, at 10 a.m. (PST).

ADDRESSES: The meeting will be held at the Potlatch Public Library, 1010 Onaway Road, Potlatch, Idaho. Written comments should be sent to Laura Smith at 104 Airport Road in Grangeville, Idaho 83530. Comments may also be sent via e-mail to lasmith@fs.fed.us or via facsimile to Laura at 208-983-4099.

FOR FURTHER INFORMATION CONTACT: Laura Smith, Designated Forest Official at 208-983-5143.

SUPPLEMENTARY INFORMATION: The meeting is open to the public. A public forum will begin on November 4th at 3:15 p.m. (PST). The following business will be conducted: Comments and questions from the public to the committee. Persons who wish to bring related matters to the attention of the Committee may file written statements with the Committee staff before or after the meeting.

Dated: October 13, 2010.
Rick Brazell,
Forest Supervisor.

[FR Doc. 2010-26366 Filed 10-19-10; 8:45 am]

BILLING CODE 3410-11-P